DEPARTMENT OF JUSTICE

[Docket No. ODAG 169]

Notice of Public Comment Period on Revised Federal Advisory Committee Work Products

AGENCY: Department of Justice.

ACTION: Notice.

SUMMARY: This notice announces the opening of the comment period on two revised subcommittee draft work products of the National Commission on Forensic Science.

DATES: Written public comment regarding revised subcommittee draft work products of the National Commission on Forensic Science meeting materials should be submitted through www.regulations.gov before March 20, 2017.

FOR FURTHER INFORMATION CONTACT: Jonathan McGrath, Ph.D., Designated Federal Officer, 810 7th Street NW., Washington, DC 20531, by email at Jonathan.McGrath@usdoj.gov by phone at (202) 514-6277.

SUPPLEMENTARY INFORMATION: On December 12, 2016, the Department of Justice published in the Federal Register a Notice announcing the January 9-10, 2017, Federal Advisory Committee Meeting of the National Commission on Forensic Science (81 FR 89509). During the Commission proceedings on January 9-10, 2017, subcommittees were provided an opportunity to revise existing draft Views work products; one related to report contents, and one related to statistical statements in forensic testimony. This Notice announces a public comment period to provide an opportunity for submitting comments on the revised work products.

Pursuant to section 10(a)(3) of the FACA and 41 CFR 102-3.105(j) and 102-3.140, the public or interested organizations may submit written comments to the Commission in response to the revised draft work product. Work products are available on the Commission's Web site: http://www.justice.gov/ncfs/work-products and on www.regulations.gov.

Dated: February 10, 2017.
Jonathan McGrath,
Designated Federal Officer, National Commission on Forensic Science.

[FR Doc. 2017-03175 Filed 2-16-17; 8:45 am]

BILLING CODE 4410-18-P